DEPARTMENT OF HOMELAND SECURITY

Customs and Border Protection

19 CFR Part 101

[CBP Dec. 04-22]

Extension of Port Limits of Memphis, TN

AGENCY: Customs and Border Protection, Homeland Security.

ACTION: Final rule.

SUMMARY: This document adopts as a final rule, a proposed extension of the port limits of the port of Memphis, Tennessee, to include all of the territory within the limits of DeSoto County, northern Mississippi. The port extension is being proposed in order to facilitate economic development in northern Mississippi, and to provide convenience and improved service to carriers, importers, and the general public.

EFFECTIVE DATE: August 11, 2004.

FOR FURTHER INFORMATION CONTACT: Dennis Dore, Office of Field Operations, (202) 927-6871.

SUPPLEMENTARY INFORMATION:

Background

The current port limits of Memphis, Tennessee are described in Treasury Decision (T.D.) 84-126, signed May 14, 1984, and published in the Federal Register (49 FR 22629) on May 31, 1984, as encompassing the corporate limits of the city of Memphis, Tennessee and all the territory within the limits of Shelby County, Tennessee.

Recently, northern Mississippi has experienced marked business expansion and population growth. Currently, businesses located in northern Mississippi utilize the nearest port of entry at Memphis, Tennessee, and the port limits of Memphis do not extend beyond the Tennessee border.

In order to facilitate economic development in northern Mississippi, and provide convenience and improved service to carriers, importers, and the general public, Customs and Border Protection (CBP), in a document published in the Federal Register (69 FR 2092) on January 14, 2004, proposed to extend the port limits of the port of Memphis, Tennessee, to include all of the territory within the limits of DeSoto County, northern Mississippi. The document proposed to amend § 101.3(b)(1) of the CBP Regulations if a determination was made to proceed with the expansion of the port limits.

Adoption of Proposal as Final Rule

Comments on the proposed amendment to the CBP Regulations were solicited. Five comments were submitted within the designated comment period. Each of the comments supported the proposed extension of the port limits and agreed that it will facilitate economic development in northern Mississippi. Upon further consideration of the matter, CBP has decided to adopt the proposal as published on January 14, 2004.

New Port Limits of the Port of Memphis, Tennessee

Accordingly, CBP is amending § 101.3(b)(1) of the CBP Regulations to reflect that the new limits of the port of entry of Memphis, Tennessee are as follows:

The corporate limits of Memphis, Tennessee and all of the territory within the limits of Shelby County, Tennessee and DeSoto County, Mississippi.

Authority

This change is being made under the authority of 5 U.S.C. 301 and 19 U.S.C. 2, 66 and 1624.

Regulatory Flexibility Act and Executive Order 12866

Although CBP solicited public comments, notice and public procedure was not required pursuant to 5 U.S.C. 553 because this document relates to agency management and organization. Accordingly, this document is not subject to the provisions of the Regulatory Flexibility Act (5 U.S.C. 601 et seq.). The Office of Management and Budget has determined this rule to be non-significant under Executive Order 12866.

Drafting Information

The principal author of this document is Kevin J. Fandl, Attorney, Office Regulations and Rulings, Customs and Border Protection. However, personnel from other Bureau offices participated in its development.

List of Subjects in 19 CFR Part 101

Customs duties and inspection, Organization and functions (Government agencies), Customs ports of entry, Exports, Imports.

Amendment to the Regulations

For the reasons stated above, part 101 of the CBP Regulations (19 CFR part 101) is amended as follows:

PART 101—GENERAL PROVISIONS

1. The general authority citation for part 101 and specific authority provision for § 101.3 continue to read as follows:

Authority: 5 U.S.C. 301; 19 U.S.C. 2, 66, 1202 (General Note 23, Harmonized Tariff Schedule of the United States), 1623, 1624, 1646a.

Sections 101.3 and 101.4 also issued under 19 U.S.C. 1 and 58b;

* * * * *

§ 101.3 [Amended]

2. In the list of ports table in § 101.3(b)(1), under the state of Tennessee, in the “Limits of port” column adjacent to “Memphis” in the “Ports of entry” column, remove the entry “(Restated in T.D. 84-126)” and add in its place “CBP Dec. 04-22”.

Dated: July 6, 2004.
Robert C. Bonner,
Commissioner, Customs and Border Protection.
Tom Ridge,
Secretary, Department of Homeland Security.

[FR Doc. 04-15680 Filed 7-9-04; 8:45 am]

BILLING CODE 4820-02-P